DEPARTMENT OF LABOR

Employment and Training Administration

[TA-W-54,785]

AVX Corp., Advance Planning Administration, Myrtle Beach, South Carolina; Dismissal of Application for Reconsideration

Pursuant to 29 CFR 90.18(C) an application for administrative reconsideration was filed with the Director of the Division of Trade Adjustment Assistance for workers at AVX Corporation, Advance Planning Administration, Myrtle Beach, South Carolina. The application contained no new substantial information which would bear importantly on the Department's determination. Therefore, dismissal of the application was issued.

TA-W-54,785; AVX Corporation, Advance Planning Administration Myrtle Beach, South Carolina (July 21, 2004).

Signed at Washington, DC, this 26th day of July, 2004.
Timothy Sullivan,
Director, Division of Trade Adjustment Assistance.

[FR Doc. 04-17718 Filed 8-3-04; 8:45 am]

BILLING CODE 4510-30-P